DEPARTMENT OF TRANSPORTATION

Federal Railroad Administration

[Docket Number FRA-2002-13398]

Petition for Waiver of Compliance

In accordance with Parts 240 and 242 of Title 49 Code of Federal Regulations (CFR), this document provides the public notice that by a document dated August 16, 2012, the Hillsborough Area Regional Transit Authority (HART) has petitioned the Federal Railroad Administration (FRA) for a waiver of compliance from certain provisions of the Federal railroad safety regulations contained at 49 CFR part 240—Qualification and Certification of Locomotive Engineers and 49 CFR part 242—Qualification and Certification of Conductors for continued operation of its TECO Line Streetcar System at a “limited connection” with a railroad operated by CSX Transportation (CSX).

In its petition, HART seeks to extend the terms and conditions of its Shared Use waiver (originally granted by FRA's Railroad Safety Board (Board) on October 18, 2002, and extended on July 14, 2006) for operation of its TECO Trolley across the 14th Street automatic interlocking at-grade rail-rail diamond crossing with CSX in Tampa, FL.

On January 11, 2011, HART requested an extension of the terms and conditions of its Shared Use waiver for operation of its TECO Trolley. The Board granted HART's request for an extension of the relief for a period of only 18 months, citing deficiencies found during recent FRA inspections. FRA granted the 18-month extension on the condition that HART remedies the deficiencies and conducts, at the least, quarterly meetings to review operations at this crossing with CSX and the Florida Department of Transportation. FRA would continue to review its operation, and HART could apply for another extension prior to the end of that time period. HART states in its current petition letter that during two FRA inspections, no deficiencies in its operation were found, and requests a 5-year extension of the original waiver.

For the reasons stated above, HART explained that its request is consistent with the waiver process for shared use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 7, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on November 15, 2012.
Robert C. Lauby,
Deputy Associate Administrator for Regulatory and Legislative Operations.

[FR Doc. 2012-28351 Filed 11-20-12; 8:45 am]

BILLING CODE 4910-06-P